DEPARTMENT OF ENERGY

Federal Energy Regulatory Commission

Notice of Application and Applicant-Prepared EA Accepted for Filing, Soliciting Motions to Intervene and Protests, and Soliciting Comments, and Final Recommendations, Terms and Conditions, and Prescriptions

July 23, 2003.

Take notice that the following hydroelectric application and applicant-prepared environmental assessment has been filed with the Commission and is available for public inspection.

a. Type of Application: New Major License.

b. Project No.: 2169-020.

c. Date Filed: February 21, 2003.

d. Applicant: Alcoa Power Generating Inc (APGI).

e. Name of Project: Topoco Project.

f. Location: On the Little Tennessee and Cheoah Rivers in Graham and Swain Counties, North Carolina and Blount and Monroe Counties, Tennessee. The project affects Federal lands.

g. Filed Pursuant to: Federal Power Act 16 U.S.C. 791(a)-825(r).

h. Applicant Contact: Mr. Norman L. Pierson, Property and Relicensing Manager, Alcoa Power Generation Inc., Tapoco Division, 300 North Hall Road, Alcoa, TN 37701-2516, (865) 977.3326

i. FERC Contact: Randy Yates at (770) 452-3784, or lorance.yates@ferc.gov.

j. Deadline for filing motions to intervene and protests, comments, and final recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

1. The proposed Tapoco Project includes four developments: Santeetlah Development consisting of: (1) 1,054-foot-high and 216-foot-high concrete arch dam; (2) 25,176 foot long tunnel/pipeline; (3) 2,881-acre reservoir; (4) powerhouse with two generating units and total original installed capacity of 45-MW and with proposed upgraded 47-MW; and (5) 750-foot-long 161 kV transmission line.

Cheoah Development consisting of: (1) 750-foot-long and 229-foot high curved concrete gravity dam; (2) 644-acre reservoir; (3) powerhouse with 4 vertical Francis turbine units directly connected to generators and 1-independent Francis turbine unit added in 1949; and (4) with total original installed capacity of 110-MW and with proposed upgrades, 144.7-MW total installed capacity.

Calderwood Development consisting of: (1) 916-foot-long and 230-foot-high concrete arch dam; (2) 570-acre reservoir; (3) 2,050-foot-long tunnel; and (4) powerhouse with 3 Francis turbine units, which have been upgraded to a total installed capacity of 140.4-MW.

Chilhowee Development consisting of: (1) 1,483-foot-long and 88.5-foot-high concrete gravity dam; (2) 1.734-acre reservoir; and (3) powerhouse with 3 Kaplan turbine units with total installed capacity of 48-MW

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/esubscribenow.htm to be notified via email of new filings and issuances related to this or other pending projects. For assistance, contact FERC Online Support.

The application will be processed according to the following revised Hydro Licensing Schedule. Other revisions to the schedule may be made as appropriate.

Deadline for Agency Recommendations: September 2003.

Deadline for Reply Comments: November 2003.

Notice of the availability of the EA: January 2004.

Public Comments on EA due: March 2004.

Ready for Commission's decision on the application: July 2004.

Magalie R. Salas,
Secretary.

[FR Doc. 03-19391 Filed 7-30-03; 8:45 am]

BILLING CODE 6717-01-P